DEPARTMENT OF STATE

[Public Notice 8534]

Defense Trade Advisory Group; Notice of Open Meeting

AGENCY: Department of State.

ACTION: Notice of meeting.

SUMMARY: The Defense Trade Advisory Group (DTAG) will meet in open session January 16, 2014, to discuss current defense trade issues and topics for further study. Specific agenda topics include: (1) Identify potential negative impacts and unintended consequences of the Export Control Reform Initiatives on industry and provide recommendation on how to overcome/minimize such impacts; (2) Review the impacts on industry for use of the exemptions authorized to support the Defense Trade Cooperation Treaties between the United States and the United Kingdom and Australia respectively; (3) Provide a proposal for an effective export control system for non-lethal, non-Category I UAVs that would facilitate their use in non-military roles; and (4) Review how various USG agencies define controlled unclassified information (CUI), including export controlled technical data, and critical program information (CPI); review the statutory, regulatory and other bases (e.g., policy or directive) for agency control; and assess how USG agencies impose potentially competing requirements on industry for protecting CUI and CPI.

The membership of this advisory committee consists of private sector defense trade representatives, appointed by the Assistant Secretary of State for Political Military Affairs, and advises the Department on policies, regulations, and technical issues affecting defense trade.

Members of the public may attend this open session and will be permitted to participate in the discussion in accordance with the DTAG Chair's instructions. Members of the public may, if they wish, submit a brief statement to the committee in writing.

As access to Department of State facilities is controlled, persons wishing to attend the meeting must notify the DTAG Alternate Designed Federal Officer (DFO), at the address listed below, by close of business Thursday, January 9, 2014. If notified after this date, the Department's Bureau of Diplomatic security may not be able to complete the necessary processing required for the intended participant to attend the plenary session. A person requesting reasonable accommodation should notify the Alternate DFO by the same date.

Anyone who wishes to attend this plenary session should provide: His/her name; company or organizational affiliation (if any); date of birth; and identifying data such as driver's license number, U.S. Government ID, or U.S. Military ID, to the DTAG Alternate DFO, Lisa Aguirre, via email at aguirrelv@state.gov. A RSVP list will be provided to Diplomatic Security. One of the following forms of valid photo identification will be required for admission to the Department of State building: U.S. driver's license, passport, U.S. Government ID, or other Government-issued photo ID.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

DATES: The meeting will be held on Thursday, January 16, 2014, from 9:00 a.m. until 12:00 p.m. and 1:15 p.m. until 4:00 p.m.

ADDRESSES: The meeting will be held in Dean Acheson Auditorium, Harry S. Truman Building, U.S. Department of State, 2201 C Street NW., Washington, DC 20520. Entry and registration will begin at 8:30 a.m. Please use the building entrance located on 23rd Street between C and D Streets.

FOR FURTHER INFORMATION CONTACT: Lisa Aguirre, PM/DDTC, SA-1, 12th Floor, Directorate of Defense Trade Controls, Bureau of Political Military Affairs, U.S. Department of State, Washington, DC 20522-0112; telephone (202) 663-2830; FAX (202) 261-8199; or email aguirrelv@state.gov.

Dated: November 14, 2013.
Kenneth B. Handelman,
Designated Federal Officer, Defense Trade Advisory Group, Department of State.

[FR Doc. 2013-28496 Filed 11-26-13; 8:45 am]

BILLING CODE 4710-25-P